DEPARTMENT OF LABOR

Employment and Training Administration

[TA-W-37,273]

Cumberland Apparel, Monticello, KY; Amended Certification Regarding Eligibility To Apply for Worker Adjustment Assistance

In accordance with Section 223 of the Trade Act of 1974 (19 U.S.C 2273) the Department of Labor issued a Notice of Certification Regarding Eligibility to Apply for Worker Adjustment Assistance on March 23, 2000, applicable to workers of Cumberland Apparel, Monticello, Kentucky. The notice will be published soon in the Federal Register.

At the request of the State agency, the Department reviewed the certification for workers of the subject firm. The workers produce children's sleepwear. New findings show that there was a previous certification, TA-W-33,812, issued on September 22, 1997, for workers of Cumberland Apparel, Monticello, Kentucky who were engaged in employment related to the production of children's sleepwear. That certification expired September 22, 1999. To avoid an overlap in worker group coverage, the certification is being amended to change the impact date from January 10, 1999 to September 23, 1999, for workers of the subject firm.

The amended notice applicable to TA-W-37,273 is hereby issued as follows:

All workers of Cumberland Apparel, Monticello, Kentucky who became totally or partially separated from employment on or after September 23, 1999 through March 23, 2002 are eligible to apply for adjustment assistance under Section 223 of the Trade Act of 1974.

Signed at Washington, DC this 7th day of April, 2000.
Grant D. Beale,
Program Manager, Division of Trade Adjustment Assistance.

[FR Doc. 00-9519 Filed 4-14-00; 8:45 am]

BILLING CODE 4510-30-M